DEPARTMENT OF AGRICULTURE

Forest Service

Carrol Creek Fire Salvage and Restoration Project; Wallowa-Whitman National Forest, Wallowa County, Oregon

AGENCY: Forest Service, USDA.

ACTION: Notice of availability.

SUMMARY: The Environmental Assessment for the Carrol Creek Fire Salvage and Restoration Project is available for review. The EA discusses alternatives considered for resource recovery and restoration for the Carrol Creek fire area, which burned in August 2000. Five alternatives are considered representing a range of treatment levels for the area. The preferred alternative (Alternative 2) includes a project-specific amendment to the Wallowa-Whitman National Forest Land and Resource Management Plan. This amendment replaces 175 acres of burned Designated Old Growth habitat with the best available adjacent habitat. The Carrol Creek area is about 11 air miles southeast of Joseph, Oregon. The Environmental Assessment is available upon request from the Wallowa Valley Ranger District, 88401 Highway 82, Enterprise, OR, 97828: and at the Wallowa-Whitman National Forest website at www.fs.fed.us/r6/w-w.

FOR FURTHER INFORMATION CONTACT: For further information, contact Paul Survis, Wallowa Valley Ranger District, 88401 Highway 82, Enterprise, OR, 97828, or phone 541-426-5681.

SUPPLEMENTARY INFORMATION:

Dated: April 16, 2001.
Karyn L. Wood,
Forest Supervisor.

[FR Doc. 01-10214 Filed 4-24-01; 8:45 am]

BILLING CODE 3-110-11-M